DEPARTMENT OF COMMERCE

National Oceanic and Atmospheric Administration

50 CFR Part 300

[RTID 0648-XB534]

Fraser River Pink Salmon Fisheries; Inseason Orders

AGENCY: National Marine Fisheries Service (NMFS), National Oceanic and Atmospheric Administration (NOAA), Commerce.

ACTION: Temporary rule; inseason orders.

SUMMARY: NMFS publishes Fraser River salmon inseason orders to regulate tribal treaty (treaty Indian) and non-tribal (all citizen) commercial salmon fisheries in U.S. waters. The orders were issued by the Fraser River Panel (Panel) of the Pacific Salmon Commission (Commission) and subsequently approved and issued by NMFS during 2021 for pink salmon fisheries within the U.S. Fraser River Panel Area. These orders established fishing dates, times, and areas for the gear types of U.S. treaty Indian and all citizen commercial fisheries during the period the Panel exercised jurisdiction over these fisheries.

DATES: The effective dates for the inseason orders are set out in this document under the heading Inseason Orders.

FOR FURTHER INFORMATION CONTACT: Anthony Siniscal at 971-322-8407, Email: Anthony.siniscal@noaa.gov.

SUPPLEMENTARY INFORMATION: The Treaty between the Government of the United States of America and the Government of Canada concerning Pacific salmon was signed at Ottawa on January 28, 1985, and subsequently was given effect in the United States by the Pacific Salmon Treaty Act (Act) at 16 U.S.C. 3631-3644.

Under authority of the Act, Federal regulations at 50 CFR part 300, subpart F, provide a framework for the implementation of certain regulations of the Commission and inseason orders of the Commission's Panel for U.S. sockeye and pink salmon fisheries in the Fraser River Panel Area.

The regulations close the U.S. portion of the Panel Area to U.S. sockeye and pink salmon tribal and non-tribal commercial fishing unless opened by Panel regulations that are given effect by inseason orders issued by NMFS (50 CFR 300.94(a)(1)). During the fishing season, NMFS may issue inseason orders that establish fishing times and areas consistent with the Commission agreements and regulations of the Panel. Such orders must be consistent with domestic legal obligations and are issued by the Regional Administrator, West Coast Region, NMFS. Official notification of these inseason actions is provided by two telephone hotline numbers described at 50 CFR 300.97(b)(1) and in 84 FR 19729 (May 6, 2019). The inseason orders are published in the Federal Register as soon as practicable after they are issued. Due to the frequency with which inseason orders are issued, publication of individual orders is impractical.

Inseason Orders

NMFS issued the following inseason orders for U.S. fisheries within Panel Area waters during the 2021 fishing season, consistent with the orders adopted by the Panel. Each of the following inseason actions was effective upon announcement on telephone hotline numbers as specified at 50 CFR 300.97(b)(1) and in 86 FR 26425 (May 16, 2021); those dates and times are listed herein. The times listed are local times, and the areas designated are Puget Sound Management and Catch Reporting Areas as defined in the Washington State Administrative Code at Chapter 220-22.

Fraser River Panel Order Number 2021-01: Issued 2 p.m., August 20, 2021

Treaty Indian Fishery

Areas 4B, 5, and 6C: Open for drift gillnet fishing from 12 p.m. (noon), Saturday, August 21, 2021, through 12 p.m. (noon), Wednesday, August 24, 2021. Sockeye non-retention, all efforts must be made to release sockeye alive.

All Citizen Fishery

Areas 7 and 7A: Open to reef net fishing, with non-retention of sockeye, from 5 a.m. to 9 p.m. Monday, August 23, 2021.

Fraser River Panel Order Number 2021-02: Issued 2 p.m., August 24, 2021

Treaty Indian Fishery

Areas 4B, 5, and 6C: Extend for drift gillnet fishing from 12 p.m. (noon), Wednesday, August 25, 2021, through 12 p.m. (noon), Saturday, August 28, 2021. Sockeye non-retention, all efforts must be made to release sockeye alive.

All Citizen Fishery

Areas 7 and 7A, excluding the Apex: Open to purse seine fishing, from 5 a.m. to 9 p.m., Friday, August 27, 2021. Sockeye non-retention.

Areas 7 and 7A, excluding the Apex: Open to drift gillnet fishing, from 8 a.m. to 11:59 p.m., Friday, August 27, 2021. Sockeye non-retention.

The Apex is defined as those waters north and west of the Area 7A “Iwersen Dock Line”. The Iwersen Dock Line is the line projected from Iwersen Dock on Point Roberts to the Georgina Point light at the entrance to Active Pass in the Province of British Columbia.

Fraser River Panel Order Number 2021-03: Issued 3:30 p.m., August 27, 2021

Treaty Indian Fishery

Areas 4B, 5, and 6C: Extend for drift gillnet fishing from 12 p.m. (noon), Saturday, August 28, 2021, through 12 p.m. (noon), Wednesday, September 1, 2021. Release sockeye.

Areas 6, 7, and 7A in the area southerly and easterly of a straight line drawn from Iwersen's dock on Point Roberts in the State of Washington to the Georgina Point Light at the entrance to Active Pass in the Province of British Columbia: Open for net fishing from 5 a.m., Sunday, August 29, 2021, through 9 a.m., Monday, August 30, 2021. Release sockeye.

All Citizen Fishery

Areas 7 and 7A in the area southerly and easterly of a straight line drawn from Iwersen's dock on Point Roberts in the State of Washington to the Georgina Point Light at the entrance to Active Pass in the Province of British Columbia: Open to purse seine fishing, with non-retention of sockeye, from 5 a.m. to 9 p.m. Tuesday, August 31, 2021.

Areas 7 and 7A in the area southerly and easterly of a straight line drawn from Iwersen's dock on Point Roberts in the State of Washington to the Georgina Point Light at the entrance to Active Pass in the Province of British Columbia: Open to drift gillnet fishing, with non-retention of sockeye, from 8 a.m. to 11:59 p.m., Tuesday, August 31, 2021.

Area 7: Open to reef net fishing, with non-retention of sockeye, from 5 a.m. to 9 p.m., Tuesday, August 31, 2021.

Fraser River Panel Order Number 2021-04: Issued 3:15 p.m., August 30, 2021

Treaty Indian Fisheries

Areas 4B, 5, and 6C: Extend for drift gillnet fishing from 12 p.m. (noon), Wednesday, September 1, 2021, through 12 p.m. (noon), Saturday, September 4, 2021. Sockeye non-retention, all efforts must be made to release sockeye alive.

Areas 6, 7, and 7A in the area southerly and easterly of a straight line drawn from the Iwersen Dock on Point Roberts in the State of Washington to the Georgina Point Light at the entrance to Active Pass in the Province of British Columbia: Open for net fishing from 5 a.m., Tuesday, August 31, 2021, through 9 a.m., Thursday, September 2, 2021. Sockeye non-retention, all efforts must be made to release sockeye alive.

All Citizen Fishery

Areas 7 and 7A in the area southerly and easterly of a straight line drawn from the Iwersen Dock on Point Roberts in the State of Washington to the Georgina Point Light at the entrance to Active Pass in the Province of British Columbia: Open to purse seine fishing, with non-retention of sockeye, from 5 a.m. to 9 p.m., Wednesday, September 1, 2021.

Areas 7 and 7A in the area southerly and easterly of a straight line drawn from the Iwersen Dock on Point Roberts in the State of Washington to the Georgina Point Light at the entrance to Active Pass in the Province of British Columbia: Open to drift gillnet fishing, with non-retention of sockeye, from 8 a.m. to 11:59 p.m., Wednesday, September 1, 2021.

Area 7: Open to reef net fishing, with non-retention of sockeye, from 5 a.m. to 9 p.m., Wednesday, September 1, 2021.

Fraser River Panel Order Number 2021-05: Issued 2 p.m., September 3, 2021

Treaty Indian Fisheries

Areas 4B, 5, and 6C: Extend for drift gillnet fishing from 12 p.m. (noon), Saturday, September 4, 2021, through 12 p.m. (noon), Tuesday, September 7, 2021. Sockeye non-retention, all efforts must be made to release sockeye alive.

Areas 6, 7, and 7A in the area southerly and easterly of a straight line drawn from the Iwersen Dock on Point Roberts in the State of Washington to the Georgina Point Light at the entrance to Active Pass in the Province of British Columbia: Open for net fishing from 5 a.m., Saturday, September 4, 2021, through 9 a.m., Tuesday, September 7, 2021. Sockeye non-retention, all efforts must be made to release sockeye alive.

Fraser River Panel Order Number 2021-06: Issued 2 p.m., September 7, 2021

Treaty Indian Fisheries

Areas 4B, 5, and 6C: Open for drift gillnet fishing from 12 p.m. (noon), Wednesday, September 8, 2021, through 12 p.m. (noon), Friday, September 10, 2021. Sockeye non-retention, all efforts must be made to release sockeye alive.

Areas 6, 7, and 7A in the area southerly and easterly of a straight line drawn from the Iwersen Dock on Point Roberts in the State of Washington to the Georgina Point Light at the entrance to Active Pass in the Province of British Columbia: Open for net fishing from 5 a.m., Wednesday, September 8, 2021, through 9 a.m., Friday, September 10, 2021. Sockeye non-retention, all efforts must be made to release sockeye alive.

Fraser River Panel Order Number 2021-07: Issued 2 p.m., September 10, 2021

Treaty Indian Fisheries

Areas 4B, 5, and 6C: Open for drift gillnet fishing from 12 p.m. (noon), Saturday, September 11, 2021, through 12 p.m. (noon), Monday, September 13, 2021. Sockeye non-retention, all efforts must be made to release sockeye alive.

Areas 6, 7, and 7A in the area southerly and easterly of a straight line drawn from the Iwersen Dock on Point Roberts in the State of Washington to the Georgina Point Light at the entrance to Active Pass in the Province of British Columbia: Open for net fishing from 5 a.m., Saturday, September 11, 2021, through 9 a.m., Monday, September 13, 2021. Sockeye non-retention, all efforts must be made to release sockeye alive.

All Citizen Fishery

Area 7: Open to reef net fishing, with non-retention of sockeye, from 5 a.m. to 9 p.m., Saturday, September 11, 2021 and 5 a.m. to 9 p.m., Sunday, September 12, 2021.

Fraser River Panel Order Number 2021-08: Issued 4:45 p.m., September 13, 2021

All Citizen Fishery

Area 7: Open to reef net fishing, with non-retention of sockeye, from 5 a.m. to 9 p.m., Tuesday, September 14, 2021, 5 a.m. to 9 p.m., Wednesday, September 15, 2021, 5 a.m. to 9 p.m., Thursday, September 16, 2021, and 5 a.m. to 9 p.m., Friday, September 17, 2021.

Fraser River Panel Order Number 2021-09: Issued 12 p.m., September 17, 2021

Treaty Indian and All Citizen Fisheries

Areas 6, 6A, and 7: Relinquish regulatory control effective 11:59 p.m., Saturday, September 18, 2021.

Classification

The Assistant Administrator for Fisheries NOAA (AA), finds that good cause exists for the inseason orders to be issued without affording the public prior notice and opportunity for comment under 5 U.S.C. 553(b)(B) as such prior notice and opportunity for comments is impracticable and contrary to the public interest. Prior notice and opportunity for public comment is impracticable because NMFS has insufficient time to allow for prior notice and opportunity for public comment between the time the stock abundance information is available to determine how much fishing can be allowed and the time the fishery must open and close in order to harvest the appropriate amount of fish while they are available.

The AA also finds good cause to waive the 30-day delay in the effective date, required under 5 U.S.C. 553(d)(3), of the inseason orders. A delay in the effective date of the inseason orders would not allow fishers appropriately controlled access to the available fish at that time they are available.

This action is authorized by 50 CFR 300.97, and is exempt from review under Executive Order 12866.

Authority: 16 U.S.C. 3636(b).

Dated: December 14, 2021.
Ngagne Jafnar Gueye,
Acting Director, Office of Sustainable Fisheries, National Marine Fisheries Service.

[FR Doc. 2021-27392 Filed 12-16-21; 8:45 am]

BILLING CODE 3510-22-P